FEDERAL COMMUNICATIONS COMMISSION

[Report No. 2540]

Petitions for Reconsideration of Action in Rulemaking Proceeding

March 15, 2002.

Petitions for Reconsideration have been filed in the Commission's rulemaking proceeding listed in this Public Notice and published pursuant to 47 CFR 1.429(e). The full text of this document is available for viewing and copying in Room CY-A257, 445 12th Street, SW., Washington, DC or may be purchased from the Commission's copy contractor, Qualex International (202) 863-2893. Oppositions to these petitions must be filed by April 5, 2002. See § 1.4(b)(1) of the Commission's rules (47 CFR 1.4(b)(1)). Replies to an opposition must be filed within 10 days after the time for filing oppositions has expired.

Subject: In the Matter of 2000 Biennial Regulatory Review; Spectrum Aggregation Limits for Commercial Mobile Radio Services (WT Docket No. 01-14).

Number of Petitions Filed: 2.

William F. Caton,
Acting Secretary.

[FR Doc. 02-6771 Filed 3-20-02; 8:45 am]

BILLING CODE 6712-01-M